DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before December 6, 2002.

ADDRESS COMMENTS TO: Records Center, Research and Special Programs Administration, U.S. Department of Transportation, Washington, DC 20590.

Comments should refer to the application number and be submitted in triplicate. If confirmation of receipt of comments is desired, include a self-addressed stamped postcard showing the exemption number

FOR FURTHER INFORMATION CONTACT: Copies of the applications are available for inspection in the Records Center, Nassif Building, 400 7th Street SW., Washington, DC or at http://dms.dot.gov.

This notice of receipt of applications for modification of exemptions is published in accordance with Part 107 of the Federal hazardous materials transportation law (49 U.S.C. 5117(b); 49 CFR 1.53(b)).

Issued in Washington, DC, on November 18, 2002.
R. Ryan Posten,
Exemptions Program Officer, Office of Hazardous Materials Exemptions and Approvals.

Application No. | Docket No. | Applicant | Modification of exemption
11650-M |  | Autoliv ASP, Inc. Ogden, UT (See Footnote 1) | 11650
12104-M | RSPA-98-4039 | Mitsubishi Polyester Film, Greer, SC (See Footnote 2) | 12104
12782-M | RSPA-01-10318 | Air Liquide America L.P., Houston, TX (See Footnote 3) | 12782
12927-M | RSPA-02-11628 | Tri-Wall, A Weyerhaeuser Business, Butler, IN (See Footnote 4) | 12927
12995-M | RSPA-02-12220 | The Dow Chemical Company, Midland, MI (See Footnote 5) | 12995
13032-M | RSPA-02-12442 | CONAX Florida Corporation, St. Petersburg, FL (See Footnote 6) | 13032
13100-M | RSPA-02-13244 | Aztec Peroxides, Elyria, OH (See Footnote 7) | 13100
131214-M | RSPA-02-13421 | Brenntag Mid-South, Inc., Henderson, KY (See Footnote 8) | 13124
¹ To modify the exemption to authorize a newly designed airbag inflator device with a maximum service pressure of 8500 PSIG for use as a component of a automobile vehicle safety system.
² To modify the exemption to upgrade loading procedures and drawings for the DOT Specification tank cars transporting Class 9 materials.
³ To modify the exemption to authorize the transportation of certain Division 2.2 and 2.3 materials in DOT Specification cylinders equipped with plastic valve protection caps.
⁴ To modify the exemption to authorize cargo vessel as an additional mode for the transportation of various waste hazardous materials.
⁵ To modify the exemption to authorize the transportation of a Division 2.2 material in DOT 2Q Specification on-refillable containers.
⁶ To reissue the exemption originally issued on an emergency basis for the use of non-DOT specification, non-refillable composite pressure vessels for the transportation of Division 2.2 materials.
⁷ To reissue the exemption originally issued on an emergency basis for the transportation of a Division 5.2 material in a UN31HAI intermediate bulk container (IBC).
⁸ To reissue the exemption originally issued on an emergency basis for the transportation of certain Class 8 materials in UN31H1 or UN31H2 intermediate bulk containters (IBC).

[FR Doc. 02-29658 Filed 11-20-02; 8:45 am]

BILLING CODE 4910-60-M